DEPARTMENT OF ENERGY

Federal Energy Regulatory Commission

[Project No. 3442-029]

City of Nashua; Notice of Revised Procedural Schedule for Environmental Assessment for the Proposed Project Relicense

On July 30, 2021, the City of Nashua, New Hampshire (Nashua) filed an application for a new license to continue to operate and maintain the 3-megawatt Mine Falls Hydroelectric Project No. 3442 (Mine Falls Project). On February 13, 2024, Commission staff issued a notice of intent to prepare an environmental assessment (EA) to evaluate the effects of relicensing the Mine Falls Project. The notice included an anticipated schedule for issuing the EA in February 2025.

Staff is still evaluating the effects of relicensing the Mine Falls Project. In order for staff to fully consider all the information filed by Nashua, the procedural schedule for completing the EA is being revised as follows. Further revisions to the schedule may be made as appropriate.

Milestone | Target date
Issue EA | May 2025.

Any questions regarding this notice may be directed to Khatoon Melick at (202) 502-8433, or by email at khatoon.melick@ferc.gov.

Dated: February 24, 2025.
Debbie-Anne A. Reese,
Secretary.

[FR Doc. 2025-03276 Filed 2-27-25; 8:45 am]

BILLING CODE 6717-01-P